DEPARTMENT OF COMMERCE

International Trade Administration

[C-427-819]

Final Results of Countervailing Duty Administrative Review: Low Enriched Uranium from France

AGENCY: Import Administration, International Trade Administration, Department of Commerce.

SUMMARY: On February 15, 2006, the Department of Commerce (“the Department”) published in the Federal Register its preliminary results of administrative review of the countervailing duty (“CVD”) order on low enriched uranium (“LEU”) from France for the period January 1, 2004, through December 31, 2004 (see Notice of Preliminary Results of Countervailing Duty Administrative Review: Low Enriched Uranium from France, 71 FR 7924 (February 15, 2006) (“LEU 2004 Preliminary Results”)). The Department has now completed the administrative review in accordance with section 751(a) of the Tariff Act of 1930, as amended (“the Act”).

Based on our analysis of the comments received, the Department has not revised the net subsidy rate for Eurodif S.A. (“Eurodif”)/Compagnie Generale Des Matieres Nucleaires (“COGEMA”), the producer/exporter of subject merchandise covered by this review. For further discussion of our analysis of the comments received for these final results, see the August 14, 2006, Issues and Decision Memorandum from Stephen J. Claeys, Deputy Assistant Secretary for Import Administration, to David M. Spooner, Assistant Secretary for Import Administration, concerning the Final Results of Countervailing Duty Administrative Review: Low Enriched Uranium from France (“LEU 2004 Decision Memorandum”). The final net subsidy rate for Eurodif/COGEMA is listed below in “Final Results of Review.”

EFFECTIVE DATE: August 18, 2006.

FOR FURTHER INFORMATION CONTACT: Kristen Johnson, AD/CVD Operations, Office 3, Import Administration, U.S. Department of Commerce, Room 4014, 14th Street and Constitution Avenue, NW, Washington, DC 20230; telephone: (202) 482-4793.

SUPPLEMENTARY INFORMATION:

Background

On February 15, 2006, the Department published in the Federal Register the preliminary results for this review (see LEU 2004 Preliminary Results). We invited interested parties to comment on the results. On March 20, 2006, we received case briefs from petitioners¹ and Eurodif/COGEMA and the Government of France (“GOF”), the respondents. On March 23, 2006, and March 24, 2006, we received rebuttal briefs from respondents and petitioners, respectively. On May 2, 2006, the Department published in the Federal Register a notice of extension of the deadline for the final results of this administrative review. See Low Enriched Uranium from France: Extension of Time Limit for Final Results of Countervailing Duty Administrative Review, 71 FR 25813 (May 2, 2006).

¹ Petitioners are the United States Enrichment Corporation (“USEC”) and USEC Inc.

Pursuant to 19 CFR 351.213(b), this review covers only those producers or exporters of the subject merchandise for which a review was specifically requested. Accordingly, this review covers only Eurodif/COGEMA. The review covers the period January 1, 2004, through December 31, 2004, and two programs.

Scope of the Order

The product covered by this order is all LEU. LEU is enriched uranium hexafluoride (UF6) with a U235 product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U235 assay of 20 percent or greater, also known as highly enriched uranium. In addition, fabricated LEU is not covered by the scope of this order. For purposes of this order, fabricated uranium is defined as enriched uranium dioxide (UO2), whether or not contained in nuclear fuel rods or assemblies. Natural uranium concentrates (U3O8) with a U235 concentration of no greater than 0.711 percent and natural uranium concentrates converted into uranium hexafluoride with a U235 concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designated transporter(s) while in U.S. customs territory, and (ii) are re-exported within eighteen (18) months of entry of the LEU for consumption by the end-user in a nuclear reactor outside the United States. Such entries must be accompanied by the certifications of the importer and end user.

The merchandise subject to this order is currently classifiable in the Harmonized Tariff Schedule of the United States (“HTSUS”) at subheading 2844.20.0020. Subject merchandise may also enter under 2844.20.0030, 2844.20.0050, and 2844.40.00. Although the HTSUS subheadings are provided for convenience and customs purposes, the written description of the merchandise is dispositive.

Analysis of Comments Received

All issues raised in the case and rebuttal briefs by parties to this review are addressed in the LEU 2004 Decision Memorandum, which is hereby adopted by this notice. A list of the issues contained in that decision memorandum is attached to this notice as Appendix I. Parties can find a complete discussion of the issues raised in this review and the corresponding recommendations in that public memorandum, which is on file in the Central Records Unit, room B-099 of the Main Commerce Building. In addition, a complete copy of the LEU 2004 Decision Memorandum can be accessed directly on the World Wide Web at http://ia.ita.doc.gov/frn. The paper copy and electronic version of the decision memorandum are identical in content.

Final Results of Review

In accordance with section 705(c)(1)(B)(i) of the Act, we calculated an ad valorem subsidy rate for Eurodif/COGEMA. For the review period, we determine the net subsidy rate to be 5.06 percent ad valorem.

As discussed in Comment 4 of the LEU 2004 Decision Memorandum, we have been enjoined from liquidating entries of the subject merchandise. Therefore, we do not intend to issue liquidation instructions to U.S. Customs and Border Protection (“CBP”) for entries made during the period January 1, 2004, through December 31, 2004, until such time as the injunctions, issued on June 24, 2002, November 1, 2004, and October 12, 2005, are lifted.

We will, however, instruct CBP, within 15 days of publication of the final results of this review, to collect cash deposits of estimated countervailing duties at 5.06 percent ad valorem of the f.o.b. price on all shipments of the subject merchandise from the reviewed entity, entered, or withdrawn from warehouse, for consumption on or after the date of publication of the final results.

We will also instruct CBP to continue to collect cash deposits for non-reviewed companies at the most recent company-specific rate applicable to the company. Accordingly, the cash deposit rate that will be applied to non-reviewed companies covered by this order will be the rate for that company established in the investigation. See Amended Final Determination and Notice of Countervailing Duty Order: Low Enriched Uranium from France, 67 FR 6689 (February 13, 2002). The “all others” rate shall apply to all non-reviewed companies until a review of a company assigned this rate is requested.

This notice also serves as a reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

This administrative review and this notice are issued and published in accordance with section 751(a)(1) and 777(i)(1) of the Act.

Dated: August 14, 2006.
Joseph A. Spetrini,
Acting Assistant Secretary for Import Administration.

APPENDIX I—ISSUES AND DECISION MEMORANDUM

I. SUBSIDIES VALUATION INFORMATION

A. Calculation of Ad Valorem Rates

II. ANALYSIS OF PROGRAMS

A. Programs Determined to Confer Subsidies

1. Purchases at Prices that Constitute “More Than Adequate Remuneration”

2. Exoneration/Reimbursement of Corporate Income Taxes

III. TOTAL AD VALOREM RATE

IV. ANALYSIS OF COMMENTS

Comment 1: Adequacy of Remuneration

Comment 2: SWU Benchmark

Comment 3: Rescission

Comment 4: Draft Customs Instructions

[FR Doc. E6-13683 Filed 8-17-06; 8:45 am]

BILLING CODE 3510-DS-S